DEPARTMENT OF EDUCATION

National Advisory Committee on Institutional Quality and Integrity Meeting

AGENCY: U.S. Department of Education, National Advisory Committee on Institutional Quality and Integrity (NACIQI), Office of Postsecondary Education.

ACTION: Announcement of an open meeting.

SUMMARY: This notice sets forth the agenda, time, and location for the February 27, 2020 meeting of the National Advisory Committee on Institutional Quality and Integrity (NACIQI) and provides information to members of the public regarding the meeting, including requesting to make oral comments. The notice of this meeting is required under the Federal Advisory Committee Act (FACA) and the Higher Education Act (HEA).

DATES: The NACIQI meeting will be held on February 27, 2020, from 8:30 a.m. to 5:00 p.m.

ADDRESSES: Embassy Suites by Hilton Alexandria Old Town, Virginia Ballroom, 1900 Diagonal Road, Alexandria, VA 22314.

FOR FURTHER INFORMATION CONTACT: George Alan Smith, Acting Executive Director/Designated Federal Official, NACIQI, U.S. Department of Education, 400 Maryland Avenue SW, Room 271-03, Washington, DC 20202, telephone: (202) 453-7757, or email: George.Alan.Smith@ed.gov.

SUPPLEMENTARY INFORMATION:

NACIQI's Statutory Authority and Function: NACIQI is established under section 114 of the HEA. NACIQI advises the Secretary of Education with respect to:

• The establishment and enforcement of the standards of accrediting agencies or associations under subpart 2, part G, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

Meeting Agenda: Agenda items for the February 27, 2020 meeting are below.

Application for Initial Recognition

1. National Nurse Practitioner Residency and Fellowship Training Consortium. Requested Scope of Recognition: The accreditation of postgraduate residency and fellowship nurse practitioner (NP) postgraduate training programs in the United States. This recognition also extends to the agency's Appeal Panel.

Application for Renewal of Recognition

1. New York State Board of Regents, State Education Department, Office of the Professions (Public Postsecondary Vocational Education, Practical Nursing).

2. Pennsylvania State Board of Vocational Education, Bureau of Career and Technical Education.

3. Kansas State Board of Nursing.

4. Maryland Board of Nursing.

Application for an Expansion of Scope

1. The Association for Biblical Higher Education, Commission on Accreditation. Scope of Recognition: The accreditation and preaccreditation (“Candidate for Accreditation”), at the undergraduate level, of institutions of biblical higher education in the United States offering both campus-based and distance education instructional programs. Requested Scope of Recognition: The accreditation and preaccreditation (“Candidate Status”) of institutions of biblical higher education in the United States offering undergraduate certificates, associate degrees, baccalaureate degrees, graduate certificates, master's degrees, including the accreditation of educational programs offered via distance education.

Compliance Report

1. The Oklahoma Board of Career and Technology Education (OBCTE) compliance report includes findings of noncompliance with the criteria in 34 Code of Federal Regulations (CFR) § 603 identified in the May 9, 2018 letter from the senior Department official following the February 7, 2018 NACIQI meeting available at: https://opeweb.ed.gov/aslweb/finalstaffreports.cfm.

Subcommittee on Governance

The subcommittee will provide an update on its research of accreditor and state/gubernatorial relations.

Accreditation Regulations

Diane Auer Jones, Principal Deputy Under Secretary delegated the duties of Under Secretary, will provide an update on the Administration's implementation of regulations under 34 CFR 602. The Department amended the rules governing the Secretary's recognition process, which were published November 1, 2019 and will take effect on July 1, 2020.

Committee Chair and Vice Chair Election

The Designated Federal Official will facilitate the election of a new chair and new vice chair for the Committee.

Submission of requests to make an oral comment regarding a specific accrediting agency under review, or to make an oral comment or written statement regarding other issues within the scope of NACIQI's authority: Opportunity to submit a written statement regarding a specific accrediting agency under review was solicited by a previous Federal Register notice published on September 4, 2019 (Vol. 84, No. 171). The period for submission of such statements are now closed. Additional written comments regarding a specific agency or state approval agency under review will not be accepted at this time. However, members of the public may submit written statements regarding other issues within the scope of NACIQI's authority (“Written Statements”) for consideration by NACIQI in the manner described below. No individual in attendance or making oral comments may distribute written materials at the meeting. Oral comments may not exceed three minutes.

Oral comments about an agency's recognition after review of a compliance report must relate to issues identified in the senior Department official's letter that requested the report, or in the Secretary's appeal decision, if any, and the criteria for recognition cited in the senior Department official's letter, or in the Secretary's appeal decision. Oral comments about an agency seeking expansion of scope must be directed to the agency's ability to serve as a recognized accrediting agency with respect to the kinds of institutions or programs requested to be added. Oral comments about the renewal of an agency's recognition must relate to its compliance with the Criteria for the Recognition of Accrediting Agencies, which are available at http://www.ed.gov/admins/finaid/accred/index.html. Written Statements and oral comments concerning NACIQI's work outside of a specific accrediting agency under review must be limited to the scope of NACIQI's authority as outlined under section 114 of the HEA.

To request to make a third-party oral comment of three minutes or less at the February 27, 2020 meeting, please follow either Method One or Method Two noted below. To submit a Written Statement to NACIQI concerning its work outside a specific accrediting agency under review, please follow Method One.

Method One: Submit a request by email to the ThirdPartyComments@ed.gov mailbox. Please do not send material directly to NACIQI members. Written Statements and requests to make oral comment must be received by February 14,2020. Include in the subject line “Oral Comment Request: (agency name),” “Oral Comment Request: (subject)” or “Written Statement: (subject).” The email must include the name(s), title, organization/affiliation, mailing address, email address, telephone number, of the person(s) submitting a Written Statement or requesting to speak, and a brief summary (not to exceed one page) of the principal points to be made during the oral presentation, if applicable. All individuals submitting an advance request in accordance with this notice will be afforded an opportunity to speak.

Method Two: Register at the meeting location on February 27, 2020, from 7:30 a.m.-8:30 a.m., to make an oral comment during NACIQI's deliberations. The requestor must provide the subject on which he or she wishes to comment, in addition to his or her name, title, organization/affiliation, mailing address, email address, and telephone number. A total of up to fifteen minutes for each agenda item will be allotted for oral commenters who register on February 27, 2020, by 8:30 a.m. Individuals will be selected on a first-come, first-served basis. If selected, each commenter may not exceed three minutes.

Access to Records of the Meeting: The Department will post the official report of the meeting on the NACIQI website within 90 days after the meeting. In addition, pursuant to the FACA, the public may request to inspect records of the meeting at 400 Maryland Avenue SW, Washington, DC, by emailing aslrecordsmanager@ed.gov or by calling (202) 453-7415 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Robert L. King,
Assistant Secretary, Office of Postsecondary Education.

[FR Doc. 2020-01190 Filed 1-23-20; 8:45 am]

BILLING CODE 4000-01-P